DEPARTMENT OF THE TREASURY

Customs Service

Notice of Revocation of Customs Broker License

AGENCY: Customs Service, Department of the Treasury.

ACTION: General notice.

SUMMARY: Pursuant to section 641 of the Tariff Act of 1930 as amended (19 U.S.C. 1641) and the Customs Regulations (19 CFR 111.45(a)), the following Customs broker license is revoked by operation of law.

Name | License No. | Port name
A.S.I. Customs Brokers, Inc | 21025 | New York
Speed Cargo Service, Inc | 20829 | Miami

Dated: August 12, 2002.
Jayson P. Ahern,
Assistant Commissioner, Office of Field Operations.

[FR Doc. 02-21115 Filed 8-19-02; 8:45 am]

BILLING CODE 4820-02-P